DEPARTMENT OF ENERGY

Federal Energy Regulatory Commission

[Docket No. CP00-129-000]

Horizon Pipeline Company; Notice of Site Visit

August 1, 2000.

On August 14, 2000, the staff of the Office of Energy Projects (OEP) will conduct a pre-certification visit of the pipeline route proposed by Horizon Pipeline Company (Horizon) for the Horizon Pipeline Project. Inspection of the proposed route, which crosses portions of Illinois, will be conducted by automobile from a location to be determined. The inspection will continue along the route southward from McHenry County to DuPage County, Illinois. Representatives of Horizon will accompany the OEP staff.

All interested parties may attend the site visit. Those planning to attend must provide their own transportation. For further information on attending the site visit, please contact Mr. Paul McKee of the Commission's Office of External Affairs at (202) 208-1088.

David P. Boergers,
Secretary.

[FR Doc. 00-19868 Filed 8-4-00; 8:45 am]

BILLING CODE 6717-01-M